DEPARTMENT OF COMMERCE

National Oceanic and Atmospheric Administration

50 CFR Part 660

[RTID 0648-XA797]

Fisheries Off West Coast States; Coastal Pelagic Species Fisheries; Amendment 18 to the Coastal Pelagic Species Fishery Management Plan

AGENCY: National Marine Fisheries Service (NMFS), National Oceanic and Atmospheric Administration (NOAA), Commerce.

ACTION: Announcement of availability of fishery management plan amendment; request for comments.

SUMMARY: NMFS announces that the Pacific Fishery Management Council has submitted Amendment 18 to the Coastal Pelagic Species Fishery Management Plan for review by the Secretary of Commerce. Amendment 18 would implement a rebuilding plan for the northern subpopulation of Pacific sardine, which NMFS declared overfished in June 2019. NMFS will consider public comments in deciding whether to approve, disapprove, or partially approve Amendment 18.

DATES: Comments on Amendment 18 must be received by May 17, 2021. Comments on the associated Environmental Assessment must be received by April 15, 2021.

ADDRESSES: You may submit comments on this document, identified by NOAA-NMFS-0008-2021, by the following electronic methods:

• The Pacific Fishery Management Council and NMFS prepared a draft excerpt of the Coastal Pelagic Species Fishery Management Plan as amended through Amendment 18, with notations showing how Amendment 18 would change the Fishery Management Plan, if approved. This draft can be viewed via the Federal eRulemaking Portal: http://www.regulations.gov, docket NOAA-NMFS-0008-2021 or by contacting the Pacific Fisheries Management Council, 7700 NE Ambassador Place, Suite 101, Portland, OR 97220-1384. In order to comment on this document and the draft Amendment 18 language, submit all electronic public comments via the Federal e-Rulemaking Portal. Go to www.regulations.gov and enter NOAA-NMFS-0008-2021 in the Search box. Click the “Comment” icon and complete the required fields, and enter or attach your comments.

• The Pacific Fishery Management Council and NMFS prepared a draft Environmental Assessment for this action pursuant to the National Environmental Policy Act. This draft can be viewed on NMFS' website at https://www.fisheries.noaa.gov/west-coast/laws-and-policies/west-coast-region-national-environmental-policy-act-documents. In order to comment on the Environmental Assessment, submit all public comments to Lynn Massey at lynn.massey@noaa.gov, or Kerry Griffin at Kerry.griffin@noaa.gov.

Instructions: Comments must be submitted by the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Lynn Massey, Sustainable Fisheries Division, NMFS, (562) 436-2462, lynn.massey@noaa.gov; or Kerry Griffin, Pacific Fishery Management Council, (503) 820-2409, kerry.griffin@noaa.gov.

SUPPLEMENTARY INFORMATION: The coastal pelagic species (CPS) fishery in the U.S. exclusive economic zone off the West Coast is managed under the CPS Fishery Management Plan (FMP). The Pacific Fishery Management Council (Council) developed the CPS FMP pursuant to the Magnuson-Stevens Fishery Conservation and Management Act (Magnuson-Stevens Act), 16 U.S.C. 1801 et seq. The Secretary of Commerce approved the CPS FMP and implemented the provisions of the plan through regulations at 50 CFR part 660, subpart I. Species managed under the CPS FMP include Pacific sardine, Pacific mackerel, jack mackerel, northern anchovy, market squid, and krill.

The Magnuson-Stevens Act requires each regional fishery management council to submit any amendment to an FMP to NMFS for review and approval, disapproval, or partial approval. The Magnuson-Stevens Act also requires that NMFS, upon receiving an amendment to an FMP, publish notification in the Federal Register that the amendment is available for public review and comment. NMFS will consider the public comments received during the comment period described above in determining whether to approve, disapprove, or partially approve Amendment 18.

NMFS declared the northern subpopulation of Pacific sardine (hereafter, Pacific sardine) overfished in June 2019. This determination was based on the results of an April 2019 stock assessment, which indicated that the biomass of Pacific sardine had dropped below the overfished threshold of 50,000 metric tons (mt) defined in the CPS FMP. NMFS notified the Council about the overfished declaration on July 9, 2019. The Magnuson-Stevens Act requires that NMFS and the Council prepare a rebuilding plan within 2 years of NMFS' overfished notification to the Council that specifies a rebuilding timeframe (i.e., Ttarget) within 10 years, except where the biology of the stock or other environmental conditions dictate otherwise (see Magnuson-Stevens Act section 304(e)(4)(A)(2)).

In September 2020, the Council recommended a rebuilding plan strategy to NMFS that would maintain the existing management framework for the Pacific sardine fishery. Under the rebuilding plan, the harvest control rules and other FMP provisions currently in place for Pacific sardine would be maintained. This includes the harvest guideline control rule, which requires that the primary directed fishery for Pacific sardine be closed when the biomass is at or below 150,000 mt and restrictions on incidental landings of Pacific sardine in other CPS fisheries, including an automatic reduction in allowable incidental landings when the biomass is below 50,000 mt. The rebuilding plan would also maintain the Council's annual harvest specifications process for Pacific sardine, such that an overfishing limit and acceptable biological catch are calculated annually based on an estimate of that year's biomass from annual stock assessments and their respective control rules in the FMP (that have been approved by the Scientific and Statistical Committee to prevent overfishing). In addition to the harvest control rules prescribed by the CPS FMP, the rebuilding plan would allow the Council to maintain their ability to annually adjust the incidental harvest percentages or other accountability measures for the various sectors based on new information from the previous year or changes in fishery dynamics, if necessary. Although this framework would maintain the current management strategy, this management strategy already severely restricts fishing and will continue to do so until the stock is rebuilt.

Current fishing mortality is not considered to be the primary constraining factor or rebuilding Pacific sardine. The primary directed fishery for Pacific sardine has been closed since 2015 when the stock's biomass dropped below the 150,000 mt threshold in the CPS FMP for allowing a primary directed fishery. This closure of the primary directed fishery, which took place 4 years prior to the stock dropping, drastically reduced catch of Pacific sardine and has kept harvest at very low levels since that time. As such, the contribution of this rebuilding plan to stock recovery would be additional to measures already in place via the CPS FMP and Council process that limit fishing mortality of Pacific sardine.

As described above, the Magnuson-Stevens Act specifies that the time period for rebuilding a fishery generally should not exceed 10 years unless the biology of the stock or environmental conditions dictate otherwise, as is the case for Pacific sardine. Pacific sardines are known for wide swings in population abundance, and studies show the species has long experienced boom-bust cycles even in the absence of fishing. Periods of low recruitment success driven by prevailing oceanographic conditions can lead to low population abundance over extended periods of time. Because environmental conditions represent the primary constraint on rebuilding Pacific sardine, the projected time for rebuilding, is 14 years (i.e., Ttarget). This Ttarget was determined to be the shortest time possible to rebuild the stock, taking into account the biology of the species, current environmental conditions, and the needs of fishing communities. For more information about how this rebuilding target was determined, see the Environmental Assessment at https://www.fisheries.noaa.gov/west-coast/laws-and-policies/west-coast-region-national-environmental-policy-act-documents.

Amendment 18 would expand Section 4.5 of the CPS FMP to include the proposed rebuilding plan for Pacific sardine. There are no implementing regulations associated with Amendment 18, therefore NMFS will not promulgate proposed and final rules to implement this amendment.

Public comments on Amendment 18 must be received by May 17, 2021. Public comments on the associated EA for Amendment 18 must be received by May 17, 2021. All comments received by the end of the comment period on Amendment 18 will be considered in the Secretary's decision to approve, disapprove, or partially approve this amendment. To be considered in this decision, comments must be received by close of business on the last day of the comment period; that does not mean postmarked or otherwise transmitted by that date. NMFS will respond to any substantive comments received by the end of the comment period on Amendment 18 in a subsequent Federal Register document.

Authority: 16 U.S.C. 1801 et seq.

Dated: March 8, 2021.
Jennifer M. Wallace,
Acting Director, Office of Sustainable Fisheries, National Marine Fisheries Service.

[FR Doc. 2021-05101 Filed 3-15-21; 8:45 am]

BILLING CODE 3510-22-P